DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5:00 p.m. in Suite 4100W, U.S. Department of Commerce, Franklin Court Building, 1099 14th Street, NW., Washington, DC.

Docket Number: 02-0012.

Applicant: University of Vermont, College of Medicine, Molecular Physiology and Biophysics, HSRF, Room 116, 149 Beaumont Avenue, Burlington, VT 05405.

Instrument: Slow Scan CCD Camera System, Model TemCam-0124.

Manufacturer: Tietz Video and Image Processing Systems GmbH, Germany.

Intended Use: The instrument is intended to be used to study how the structure of the proteins that make muscle contract relate to their contractile performance. Experiments will involve isolating individual protein molecules and then plunging them in ice water to freeze their structures, which will then be studied in the electron microscope and visualized with the CCD camera.

Application accepted by Commissioner of Customs: March 29, 2002.

Gerald A. Zerdy,
Program Manager, Statutory Import Programs Staff.

[FR Doc. 02-12302 Filed 5-15-02; 8:45 am]

BILLING CODE 3510-DS-P